DEPARTMENT OF ENERGY

Federal Energy Regulatory Commission

[Docket No. RP99-301-010]

ANR Pipeline Company; Notice of Proposed Changes in FERC Gas Tariff

November 14, 2000.

Take notice that on November 2, 2000, ANR Pipeline Company (ANR) tendered for filing as part of its FERC Gas Tariff, Second Revised Volume No. 1, the following revised tariff sheet proposed to become effective November 1, 2000:

Original Sheet No. 14R

ANR advises that the purpose of the filing is to implement new negotiated rate transactions that supplement the previously approved restructured portfolio of negotiated rate transactions with Wisconsin Public Service Corporation.

ANR states that a copy of this filing is being mailed to the affected shippers and to each of ANR's FERC Gas Tariff, Second Revised Volume No. 1 and Original Volume No. 2 customers, and interested state regulatory commissions.

Any person desiring to be heard or to protest said filing should file a motion to intervene or a protest with the Federal Energy Regulatory Commission, 888 First Street, N.E., Washington, D.C. 20426, in accordance with Sections 385.214 or 385.211 of the Commission's Rules and Regulations. All such motions or protests must be filed in accordance with Section 154.210 of the Commission's Regulations. Protests will be considered by the Commission in determining the appropriate action to be taken, but will not serve to make protestants parties to the proceedings. Any person wishing to become a party must file a motion to intervene. Copies of this filing are on file with the Commission and are available for public inspection in the Public Reference Room. This filing may be viewed on the web at http://www.ferc.fed.us/online/rims.htm (call 202-208-2222 for assistance). Comments and protests may be filed electronically via the internet in lieu of paper. See, 18 CFR 385.2001(a)(1)(iii) and the instructions on the Commission's web site at http://www.ferc.fed.us/online/rims.htm.

Linwood A. Watson, Jr.,
Acting Secretary.

[FR Doc. 00-29584 Filed 11-17-00; 8:45 am]

BILLING CODE 6717-01-M